Title 3—

The President

Proclamation 7623 of November 6, 2002

Veterans Day, 2002

By the President of the United States of America

A Proclamation

America was founded on the principles of liberty, opportunity, and justice for all, and on Veterans Day we recognize the men and women of our Armed Forces who have valiantly defended these values throughout our Nation's history. These remarkable individuals have helped to make our Nation secure and to advance the cause of freedom worldwide. By answering the call of duty and risking their lives to protect their fellow countrymen, these patriots have inspired our Nation with their courage, compassion, and dedication.

There are currently more than 25 million living American veterans, many of whom put their lives on the line to preserve our freedoms. Our veterans served on the land, at sea, and in the air, from the shores of Omaha Beach and the jungles of Vietnam, to the sands of the Persian Gulf, the mountains of Afghanistan, and many other battlefields around the globe. Through each of these challenges, the members of the Army, Navy, Air Force, Marines, and Coast Guard have protected our country and liberated millions of people around the world from the threats of tyranny and terror.

Our proud veterans have also helped to shape the American character. They have given us an extraordinary legacy of patriotism and honor, and their service represents the highest form of citizenship. So that young Americans can better understand the commitment and sacrifice of these heroes in securing the blessings of liberty, I ask all schools to observe November 10 through November 16, 2002, as National Veterans Awareness Week. I encourage educators to invite veterans to teach our young people about their experiences. By sharing their knowledge on some of the most proud and dramatic moments in our history, they can help educate and inspire a new generation of Americans.

On the observance of Veterans Day in 1954, President Dwight D. Eisenhower called on all citizens to not only remember “the sacrifices of all those who fought so valiantly...” but also to rededicate themselves “to the task of promoting an enduring peace....” Today, almost 50 years later, we remember the dedication of our veterans, and resolve ourselves to upholding their legacy of justice, liberty, and opportunity for all.

In recognition of the contributions our service men and women have made to the cause of peace and freedom around the world, the Congress has provided (5 U.S.C. 6103(a)) that November 11 of each year shall be set aside as a legal public holiday to honor veterans.

NOW, THEREFORE, I, GEORGE W. BUSH, President of the United States of America, do hereby proclaim November 11, 2002, as Veterans Day and urge all Americans to observe November 10 through November 16, 2002, as National Veterans Awareness Week. I urge all Americans to recognize the valor and sacrifice of our veterans through appropriate public ceremonies and private prayers. I call upon Federal, State, and local officials to display the flag of the United States and to encourage and participate in patriotic activities in their communities. I invite civic and fraternal organizations, places of worship, schools, businesses, unions, and the media to support this national observance with suitable commemorative expressions and programs.

IN WITNESS WHEREOF, I have hereunto set my hand this sixth day of November, in the year of our Lord two thousand two, and of the Independence of the United States of America the two hundred and twenty-seventh.

B

[FR Doc. 02-28892

Filed 11-8-02; 11:29 am]

Billing code 3195-01-P